FEDERAL COMMUNICATIONS COMMISSION

[WC Docket No. 12-375; DA 13-1446]

Data on Service Contracts Included in Record of Inmate Calling Service Rates Proceeding

AGENCY: Federal Communications Commission.

ACTION: Notice.

SUMMARY: In this document, the Wireline Competition Bureau (Bureau) notifies the public that certain publicly-available inmate calling services (ICS) contracts may be considered as part of the record in this proceeding. On June 6, 2013, the Bureau submitted a letter into the record noting that certain readily-available information may be relevant to a number of issues raised in this proceeding and may be considered as part of the record. In addition, the Bureau submitted a letter into the record on June 21, 2013, noting that certain readily-available U.S. Census data may be considered in this proceeding. A public notice announcing the submittals was released on June 26, 2013. A copy of the letters is attached.

FOR FURTHER INFORMATION CONTACT: Gregory Haledjian, Wireline Competition Bureau, Pricing Policy Division, (202) 418-1520 or gregory.haledjian@fcc.gov.

SUPPLEMENTARY INFORMATION: This is a summary of the Commission's Public Notice, WC Docket No. 12-375; DA 13-1446, released June 26, 2013. The complete text of this document is available for inspection and copying during normal business hours in the FCC Reference Information Center, Portals II, 445 12th Street SW., Room CY-A257, Washington DC 20554. The document may also be purchased from the Commission's duplicating contractor, Best Copy and Printing, Inc., 445 12th Street, SW., Room CY-B402, Washington, DC 20554, telephone (800) 378-3160 or (202) 863-2893, facsimile (202) 863-2898, or via Internet at http://www.bcpiweb.com.

Federal Communications Commission.
Kalpak Gude,
Division Chief, Pricing Policy Division, Wireline Competition Bureau.

Federal Communications Commission

Washington, DC 20554

June 6, 2013

Marlene H. Dortch

Secretary

Federal Communications Commission

445 12th Street, SW

Washington, DC 20554

Re: Rates for Interstate Inmate Calling Services, WC Docket No. 12-375

Dear Ms. Dortch:

The Notice of Proposed Rulemaking in this docket considers whether changes to our rules are necessary to ensure just and reasonable ICS rates for interstate, long distance calling at publicly- and privately-administered correctional facilities.¹

¹ Rates for Interstate Inmate Calling Services, WC Docket No. 12-375, Notice of Proposed Rulemaking, 27 FCC Rcd 16629 (2012).

With this letter, the Wireline Competition Bureau notes that the following readily-available information may be relevant to a number of issues raised in the proceeding and may be considered as part of the record in this proceeding: certain prison phone contract information referred to in the record in this proceeding ² and available at http://prisonphonejustice.org/Prison-Phone-Kickbacks.aspx.³

² See Human Rights Defense Center Comments, WC Docket No. 12-375, at 2 and 11 (filed Mar. 25, 2013).

³ See http://www.prisonphonejustice.org/Prison-Phone-Kickbacks.aspx (last visited June 6, 2013).

Respectfully Submitted,

Jamie N. Susskind,

Acting Legal Advisor to the Bureau Chief Wireline Competition Bureau; Federal Communications Commission.

Federal Communications Commission

Washington, DC 20554

June 21, 2013

Marlene H. Dortch

Secretary

Federal Communications Commission

445 12th Street, SW

Washington, DC 20554

Re: Rates for Interstate Inmate Calling Services, WC Docket No. 12-375

Dear Ms. Dortch:

The Notice of Proposed Rulemaking in this docket considers whether changes to our rules are necessary to ensure just and reasonable rates for inmate calling services (ICS) for interstate calling at publicly- and privately- administered correctional facilities.¹

¹ Rates for Interstate Inmate Calling Services, WC Docket No. 12-375, Notice of Proposed Rulemaking, 27 FCC Rcd 16629 (2012).

With this letter, the Wireline Competition Bureau notes that the following readily-available information may be relevant to a number of issues raised in the proceeding and may be considered as part of the record in this proceeding: data on the overall U.S. distribution of incarceration facility sizes that may be used as a basis for this order and obtained from the U.S. Census Bureau, Census of State and Federal Correctional Facilities, 2005;² U.S. Bureau of Justice Statistics, Jail Inmates at Midyear 2007;³ U.S. Census Bureau, Census of Jail Facilities, 2006;⁴ and Census of Jail Inmates: Individual-Level Data, 2005.⁵

² See James J. Stephan, Census of State and Federal Correctional Facilities, 2005, Bureau of Justice Statistics, October 1, 2008, available at http://www.bjs.gov/index.cfm?ty=pbdetail&iid=530 (last visited June 20, 2013) (data summary); Study No. 24642, National Archive of Criminal Justice Data, available at http://dx.doi.org/10.3886/ICPSR24642.v2 (last visited June 20 2013) (actual dataset).

³ See Todd D. Minton & William J. Sabol, Jail Inmates at Midyear 2007, Bureau of Justice Statistics, June 6, 2008, available at http://www.bjs.gov/index.cfm?ty=pbdetail&iid=1005 (last visited June 20, 2013).

⁴ See James J. Stephan & Georgette Walsh, Census of Jail Facilities, 2006, Bureau of Justice Statistics, December 20, 2011, available at http://www.bjs.gov/index.cfm?ty=pbdetail&iid=2205 (last visited June 20, 2013) (data summary); Census of Jail Facilities, 2006, Study No. 26602, National Archive of Criminal Justice Data, available at http://dx.doi.org/10.3886/ICPSR26602.v1 (last visited June 20, 2013) (actual dataset).

⁵ See Census of Jail Inmates: Individual-Level Data, 2005, Study No. 20367, National Archive of Criminal Justice Data, available at http://dx.doi.org/10.3886/ICPSR20367.v1 (last visited June 20, 2013) (actual dataset).

Respectfully Submitted,

Jamie N. Susskind,

Acting Legal Advisor to the Bureau Chief Wireline Competition Bureau; Federal Communications Commission.

[FR Doc. 2013-18183 Filed 7-26-13; 8:45 am]

BILLING CODE 6712-01-P